GENERAL SERVICES ADMINISTRATION

[OMB Control No. 3090-0007]

General Services Administration Acquisition Regulation; Submission for OMB Review; GSA Form 527, Contractor's Qualifications and Financial Information

AGENCY: Office of the Chief Finance Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding GSA Form 527, Contractor's Qualifications and Financial Information. A request for public comments was published in the Federal Register at 73 FR 79130, December 24, 2008. No comments were received.

Public comments are particularly invited on: Whether this collection of information is necessary and whether it will have practical utility; whether our estimate of the public burden of this collection of information is accurate, and based on valid assumptions and methodology; ways to enhance the quality, utility, and clarity of the information to be collected.

DATES: Submit comments on or before: June 10, 2009.

FOR FURTHER INFORMATION CONTACT: Norma Tolson, Accountant, Office of the Chief Financial Officer, Office of Finance, at (202) 208-0584 or via email to norma.tolson@gsa.gov.

ADDRESSES: Submit comments regarding this burden estimate or any other aspect of this collection of information, including suggestions for reducing this burden to the GSA Desk Officer, OMB, Room 10236, NEOB, Washington, DC 20503, and a copy to the Regulatory Secretariat (VPR), General Services Administration, 1800 F Street, NW., Room 4041, Washington, DC 20405. Please cite OMB Control Number 3090-0007, GSA Form 527, Contractor's Qualifications and Financial Information, in all correspondence.

SUPPLEMENTARY INFORMATION:

A. Purpose

GSA Form 527 is used to determine the financial capability of prospective contractors as to whether they meet the financial responsibility standards in accordance with the Federal Acquisition Regulation and the General Services Administration Acquisition Manual.

B. Annual Reporting Burden

Respondents: 2,940.

Responses per Respondent: 1.2.

Total Responses: 3,528.

Hours per Response: 2.5.

Total Burden Hours: 8,820.

Obtaining Copies of Proposals: Requesters may obtain a copy of the information collection documents from the General Services Administration, Regulatory Secretariat (VPR), 1800 F Street, NW., Room 4041, Washington, DC 20405, telephone (202) 501-4755. Please cite OMB Control No. 3090-0007, GSA Form 527, Contractor's Qualifications and Financial Information, in all correspondence.

Dated: April 29, 2009.
Casey Coleman,
Chief Information Officer.

[FR Doc. E9-10949 Filed 5-8-09; 8:45 am]

BILLING CODE 6820-34-P